FEDERAL DEPOSIT INSURANCE CORPORATION

Agency Information Collection Activities: Renewal of Currently Approved Collections (3064-0079, 0103, 0104, 0122 & 0173); Submission for OMB Review; Comment Request

AGENCY: Federal Deposit Insurance Corporation (FDIC).

ACTION: Notice of information collection to be submitted to OMB for review and approval under the Paperwork Reduction Act, and Request for Comment.

SUMMARY: In accordance with requirements of the Paperwork Reduction Act of 1995 (44 U.S.C. 3501 et seq.), the FDIC may not conduct or sponsor, and the respondent is not required to respond to, an information collection unless it displays a currently valid Office of Management and Budget (OMB) control number. The FDIC, as part of its continuing effort to reduce paperwork and respondent burden, invites the general public and other Federal agencies to take this opportunity to comment on the renewal of existing information collections, as required by the PRA. On March 16, 2010 (75 FR 12541), the FDIC solicited public comment for a 60-day period on renewal of the following five information collections: Application for Consent to Reduce or Retire Capital (OMB No. 3064-0079); Appraisal Standards (OMB No. 3064-0103); Activities and Investments of Savings Associations (OMB No. 3064-0104), Forms Relating to Outside Counsel, Legal Support & Expert Services (OMB No. 3064-0122); and Prepaid Assessments (OMB No. 3064-0173). No comments were received. Therefore, the FDIC hereby gives notice of submission of its requests for renewal to OMB for review.

DATES: Comments must be submitted on or before July 1, 2010.

ADDRESSES: Interested parties are invited to submit written comments. All comments should refer to the name of the collection. Comments may be submitted by any of the following methods:

• http://www.FDIC.gov/regulations/laws/federa/lnotices.html.

• E-mail: comments@fdic.gov Include the name of the collection in the subject line of the message.

• Mail: Gary A. Kuiper (202.898.3877), Counsel, Federal Deposit Insurance Corporation, F-1072, 550 17th Street, NW., Washington, DC 20429.

• Hand Delivery: Comments may be hand-delivered to the guard station at the rear of the 550 17th Street Building (located on F Street), on business days between 7 a.m. and 5 p.m.

A copy of the comments may also be submitted to the FDIC Desk Officer, Office of Information and Regulatory Affairs, Office of Management and Budget, New Executive Office Building, Washington, DC 20503.

FOR FURTHER INFORMATION CONTACT: Gary A. Kuiper at the FDIC address above.

SUPPLEMENTARY INFORMATION: Proposal to renew the following currently approved collections of information:

1. Title: Application for Consent to Reduce or Retire Capital (OMB No. 3064-0079) Estimated Number of Respondents and Burden Hours:

FDIC document | Estimated number of respondents | Frequency of response | Estimated hours per response | Hours of burden
Application for Consent to Reduce or Retire Capital | 80 | 1 | 1 | 80
Total | 80 |  |  | 80

General Description of Collection

This collection requires insured state nonmember banks that propose to change their capital structure to submit an application containing information about the proposed change in order to obtain FDIC's consent to reduce or retire capital. The FDIC evaluates the information contained in the letter application in relation to statutory considerations and makes a decision to grant or to withhold consent.

2. Title: Appraisal Standards (OMB No. 3064-0103) Estimated Number of Respondents and Burden Hours:

FDIC document | Estimated number of respondents | Frequency of response | Estimated hours per response | Hours of burden
Appraisal Standards | 277,600 | 1 | .75 | 208,200
Total | 277,600 |  |  | 208,200

General Description of Collection: This collection is provided for in 12 CFR Part 323 of FDIC's regulations. Part 323 implements a portion of Title XI of the Financial Institutions Reform, Recovery, and Enforcement Act of 1989 (“FIRREA”). Title XI of FIRREA is designed to provide protection for federal financial and public policy interests by requiring real estate appraisals used in connection with federally related transactions to be performed in writing, in accordance with uniform standards, by an appraiser whose competency has been demonstrated and whose professional conduct will be subject to effective supervision.

3. Title: Activities and Investments of Savings Associations (OMB No. 3064-0104) Estimated Number of Respondents and Burden Hours:

FDIC document | Number of respondents | Frequency of response | Hours per response | Hours of burden
Activity and Investment Applications | 75 | 1 | 5 | 375
Total | 75 |  |  | 375

General Description of Collection: Section 28 of the FDI Act (12 U.S.C. 1831e) imposes restrictions on the powers of savings associations, which reduce the risk of loss to the deposit insurance funds and eliminate some differences between the powers of state associations and those of federal associations. Some of the restrictions apply to all insured savings associations and some to state chartered associations only. The statute exempts some federal savings banks and associations from the restrictions, and provides for the FDIC to grant exemptions to other associations under certain circumstances. In addition, Section 18(m) of the FDI Act (12 U.S.C. 1828(m)) requires that notice be given to the FDIC prior to an insured savings association (state or federal) acquiring, establishing, or conducting new activities through a subsidiary.

4. Title: Forms Relating to Outside Counsel, Legal Support & Expert Services (OMB No. 3064-0122) Estimated Number of Respondents and Burden Hours:

FDIC document | Estimated number of respondents | Estimated hours per response | Hours of burden
5000/26 | 85 | .50 | 42.5
5000/31 | 376 | .50 | 188
5000/33 | 63 | .50 | 31.5
5000/35 | 722 | .50 | 361
5200/01 | 500 | .75 | 500
5210/01 | 100 | 0.5 | 50
5210/02 | 55 | 0.5 | 22.5
5210/03 | 50 | 1.0 | 50
5210/03A | 50 | 1.0 | 50
5210/04 | 200 | 1.0 | 200
5210/04A | 200 | 1.0 | 200
5210/06 | 100 | 1.0 | 100
5210/06(A) | 100 | 1.0 | 100
5210/08 | 240 | 0.5 | 120
5210/09 | 100 | 1.0 | 100
5210/10 | 100 | 1.0 | 100
5210/10(A) | 100 | 1.0 | 100
5210/11 | 100 | 1.0 | 100
5210/12 | 100 | 1.0 | 100
5210/12A | 100 | 1.0 | 100
5210/14 | 100 | 0.5 | 100
5210/15 | 25 | .50 | 12.5
Total | 3,558 |  | 2,735.25

General Description of Collection: The information collected enables the FDIC to ensure that all individuals, businesses and firms seeking to provide legal support services to the FDIC meet the eligibility requirements established by Congress. The information is also used to manage and monitor payments to contractors, document contract amendments, expiration dates, billable individuals, minority law firms, and to ensure that law firms, experts, and other legal support services providers are in compliance with statutory and regulatory requirements.

5. Title: Prepaid Assessments: Application for Exemption, Application for Withdrawal of Exemption, and Transfer Notice (OMB No. 3064-0173)

Estimated Number of Respondents and Burden Hours:

FDIC document | Number of respondents | Frequency of response | Hours per response | Hours of burden
A. Application for Exemption (Deadline passed on 12/31/09) | 0 | 1 | 8 | 0
B. Application for Withdrawal of Exemption (Deadline passed on 12/31/09) | 0 | 1 | 8 | 0
C. Transfer of Assessments Notice | 50 | 1 | 2 | 100
Total | 50 |  |  | 100

General Description of Collection: The FDIC obtained emergency approval from OMB for three collections of information related to an amendment to the FDIC's assessment regulations that required insured depository institutions to prepay, on December 30, 2009, their estimated, quarterly, risk-based assessments for the fourth quarter of 2009, and for all of 2010, 2011, and 2012. The FDIC will begin to offset prepaid assessments on March 30, 2010, representing payment for the fourth quarter of 2009. Any prepaid assessment not exhausted by December 30, 2014, would be returned to the institution.

The deadline of 12/31/09 for applications for exemptions, or for applications for withdrawal of exemptions has passed, and there are no exceptions to the deadline. Transfers of assessments, however, are still permitted. When an insured depository institution enters into an agreement to transfer any portion of its prepaid assessment to another insured depository institution, it is required to notify the FDIC's Division of Finance of that transaction by submitting a written agreement signed by the legal representatives of both institutions, including documentation that each representative has the legal authority to bind the institution.

Request for Comment

Comments are invited on: (a) Whether these collections of information are necessary for the proper performance of the FDIC's functions, including whether the information has practical utility; (b) the accuracy of the estimate of the burdens of the information collections, including the validity of the methodology and assumptions used; (c) ways to enhance the quality, utility, and clarity of the information to be collected; and (d) ways to minimize the burden of the information collections on respondents, including through the use of automated collection techniques or other forms of information technology. All comments will become a matter of public record.

Dated at Washington, DC, this 24th day of May 2010.
Federal Deposit Insurance Corporation.
Robert E. Feldman,
Executive Secretary.

[FR Doc. 2010-13136 Filed 5-28-10; 8:45 am]

BILLING CODE 6714-01-P